COMMITTEE FOR PURCHASE FROM PEOPLE WHO ARE BLIND OR SEVERELY DISABLED

Procurement List; Proposed Addition

AGENCY: Committee for Purchase from People Who Are Blind or Severely Disabled.

ACTION: Proposed Addition to Procurement List—Change of Nonprofit Agency.

SUMMARY: The Committee is republishing a proposed addition to the Procurement List for a service to be furnished by nonprofit agencies employing persons who are blind or have other severe disabilities because of a change in the nonprofit agency proposed to provide the service.

Comments Must Be Received On or Before: November 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: The nonprofit agency identified in the original Federal Register notice (67 FR 58015, September 13, 2002) has been replaced by another nonprofit agency, Peckham Vocational Industries. We are extending the comment period on the proposed addition to the Procurement List to provide an opportunity for interested parties to comment on this change or to revise previously submitted comments.

This notice is published pursuant to 41 U.S.C. 47(a) (2) and 41 CFR 51-2.3. Its purpose is to provide interested persons an opportunity to submit comments on the possible impact of the proposed actions.

If the Committee approves the proposed addition, the entity of the Federal Government identified in the notice will be required to procure the service listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the service to the Government.

2. If approved, the action will result in authorizing small entities to furnish the service to the Government.

3. There are no known regulatory alternatives which would accomplish the objectives of the Javits-Wagner-O'Day Act (41 U.S.C. 46-48c) in connection with the service proposed for addition to the Procurement List. Comments on this certification are invited. Commenters should identify the statement(s) underlying the certification on which they are providing additional information.

The following service is proposed for addition to Procurement List for production by the nonprofit agencies listed:

Service

Service Type/Location: Personal Environmental Protection & Survival Equipment Warehousing and Distribution Service. U.S. Army Natick Research Development & Engineering Center, Natick, Massachusetts.

NPA: Peckham Vocational Industries, Inc., Lansing, Michigan.

Contract Activity: U.S. Army Natick Soldier Center, Natick, Massachusetts.

Sheryl D. Kennerly,
Director, Information Management.

[FR Doc. 02-28552 Filed 11-7-02; 8:45 am]

BILLING CODE 6353-01-P